DEPARTMENT OF ENERGY

Federal Energy Regulatory Commission

[Project No. 11855-000]

JLH Hydro, Inc.; Notice of Public Scoping For The Environmental Assessment Evaluating Issuance of an Original Minor License For The Idols Hydroelectric Project

March 8, 2001.

Pursuant to the National Environmental Policy Act and procedures of the Federal Energy Regulatory Commission, the Commission staff intends to prepare an Environmental Assessment (EA) that evaluates the environmental impacts of issuing an original minor license for the Idols Hydroelectric Project, No. 11855-000 to be located on the Yadkin River near the town of Clemmons in Davie and Forsyth counties, North Carolina. The project would not utilize federal lands.

The proposed project would consist of the following existing facilities: (1) A 10-foot-high, 660-foot-long, rubble masonry dam having an ungated 410-foot-long spillway; (2) a 1-mile-long, reservoir with a surface area of 35 acres, and no appreciable storage at normal pool elevation, 672.3 feet mean seal level; (3) a 900-foot-long, 100 to 150-foot-wide tailrace, separated from the main river channel by a 200-foot-long, concrete retaining wall and a mid-channel island; and (4) a 60-foot-long by 39-foot-wide brick utility building, which would contain the project's transformers.

The site's 146-foot-long by 36-foot-wide powerhouse, located at the northeast end of the dam, was a stone masonry and wood structure, which contained 6 vertical Francis-type turbines directly connected to 6 generators having a total installed capacity of 1,411 kilowatts. On February 8, 1998, a major fire destroyed the powerhouse's generators and electrical equipment as well as its wooden roof, walls, and floor.

The applicant proposes: (1) To use the project's existing dam, water intake structures, wicket gates, and turbines; (2) to reconstruct the powerhouse with a steel roof and red concrete block walls; (3) to install 6 generators having a combined capacity of 1,440 kilowatts in the restored powerhouse structure; (4) to install 3 dry-type transformers in the utility building; (5) to improve the existing canoe take-out, portage trail, and put-in area around the dam's west side; and (6) to operate the project in a run-of-river mode to produce an average of 5,866,000 kilowatt-hours of electricity per year.

The EA will consider both site-specific and cumulative environmental effects, if any, of the proposed action and reasonable alternatives, and will include an economic, financial, and engineering analysis. Preparation of staff's EA will be supported by a scoping process to ensure identification and analysis of all pertinent issues.

At this time, the Commission staff does anticipate holding any public or agency scoping meetings nor conducting a site visit. Rather, the Commission staff will issue one Scoping Document: (1) Outlining staff's preliminary evaluation of subject areas to be addressed in the EA; and (2) requesting concerned resource agencies, Native American tribes, non-governmental organizations, and individuals to provide staff with information on project area environmental resource issues that need to be evaluated in the EA.

The aforementioned scoping document will be provided to all entities and persons listed on the Commission's mailing list for the subject project. Those not on the mailing list for the Idols Hydroelectric Project may request a copy of the scoping document from Jim Haimes, the project's Environmental Coordinator, at (202) 219-2780 or by contacting him by E-mail at james.haimes@ferc.fed.us.

David P. Boergers,
Secretary.

[FR Doc. 01-6280 Filed 3-13-01; 8:45 am]

BILLING CODE 6717-01-M